Proclamation 8244 of April 22, 2008

National Volunteer Week, 2008

By the President of the United States of America

A Proclamation

Through countless acts of kindness, volunteers across America are changing our Nation for the better. During National Volunteer Week, we recognize those who take the time to help their fellow citizens realize the full potential of America.

Through volunteer work, Americans can demonstrate the kindness and generosity that make our Nation great. Mentoring a child, teaching someone to read, visiting the elderly, feeding the hungry, and finding shelter for the homeless are all examples of how Americans can and do aid those in need. Americans are volunteering in record numbers. Each year, millions of Americans volunteer, and more of our fellow citizens are discovering that the pursuit of happiness leads to the path of service. The cumulative effort of the love and compassion from our Nation's volunteers will help secure a more hopeful future for all our citizens.

My Administration remains committed to building a culture of service, citizenship, and responsibility. The USA Freedom Corps strengthens civic engagement and volunteer service in America and helps people connect with volunteer opportunities. By visiting the USA Freedom Corps website at volunteer.gov, individuals can find information about ways they can help in their local areas and across the country.

The strength of America comes from its compassionate and loving citizens. National Volunteer Week is an opportunity to show appreciation for our Nation's volunteers. The time and energy they dedicate to helping those in need reflect the true spirit of America.

NOW, THEREFORE, I, GEORGE W. BUSH, President of the United States of America, by virtue of the authority vested in me by the Constitution and laws of the United States, do hereby proclaim April 27 through May 3, 2008, as National Volunteer Week. I call upon all Americans to recognize and celebrate the important work that volunteers do every day throughout our country. I also encourage citizens to explore ways to help their neighbors in need and serve a cause greater than self.

IN WITNESS WHEREOF, I have hereunto set my hand this twenty-second day of April, in the year of our Lord two thousand eight, and of the Independence of the United States of America the two hundred and thirty-second.

[FR Doc. 08-1193

Filed 4-24-08; 9:11 am]

Billing code 3195-01-P